DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnote to the application number. Application numbers with the suffix “M” denote a modification request. These applications have been separated from the new applications for exemptions to facilitate processing.

DATES: Comments must be received on or before (15 days after publication).

ADDRESSES: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemptions is published in accordance with Part 107 of the Federal hazardous materials transportation law (49 U.S.C. 5117(b); 49 CFR 1.53(b)).

Issued in Washington, DC, on September 26, 2003.
R. Ryan Posten,
Exemptions Program Officer, Office of Hazardous Materials Exemptions and Approvals.

Application No. | Docket No. | Applicant | Modification of exemption
9266-M |  | Eurotainer SA Paris, FR (See Footnote 1) | 9266
11494-M |  | Atlantic Research Corp. (Auto. Products Group) Knoxville, TN (See Footnote 2) | 11494
11947-M | RSPA-97-2901 | Patts Fabrication and Services Odessa, TX (See Footnote 3) | 11947
12122-M | RSPA-98-4313 | Atlantic Research Corp. (Auto. Products Group) Knoxville, TN (See Footnote 4) | 12122
12468-M | RSPA-00-7421 | Connecticut Yankee Atomic Power Company East Hampton, CT (See Footnote 5) | 12468
13282-M | RSPA-03-16054 | ConocoPhillips Alaska, Inc. Anchorage, AK (See Footnote 6) | 13282
(1) To modify the exemption to authorize the transportation of an additional Division 2.2 material in non-DOT specification IMO Type 5 portable tanks.
(2) To modify the exemption to authorize passenger-carrying aircraft as an additional mode of transportation for Class 9 and Division 2.2 materials in non-DOT specification cylinders.
(3) To modify the exemption to authorize the transportation of a Class 8 material in non-DOT specification containers.
(4) To modify the exemption to authorize passenger-carrying aircraft as an additional mode of transportation for Division 2.1, 2.2 and Class 9 materials in non-DOT specification cylinders.
(5) To modify the exemption to authorize a change to the configuration, project management, transport-related responsibilities and shipment date of the reactor pressure vessel containing a Class 7 material within a Reactor Vessel Transport System.
(6) To reissue the exemption originally issued on an emergency basis for the transportation of a Class 8 material in a DOT Specification 1A1 steel drum which exceeds the quantity limitation when shipped by air.

[FR Doc. 03-24967 Filed 10-1-03; 8:45 am]

BILLING CODE 4910-60-M